INTERNATIONAL TRADE COMMISSION

[Investigation No. 731-TA-747 (Final)]

Fresh Tomatoes From Mexico; Suspension of Anti-Dumping Investigation

AGENCY: United States International Trade Commission.

ACTION: Notice.

SUMMARY: The Commission hereby gives notice that the final phase of its antidumping investigation of fresh tomatoes from Mexico is suspended. The subject investigation was resumed on May 7, 2019, to determine whether an industry in the United States is materially injured or threatened with material injury, or the establishment of an industry in the United States is materially retarded, by reason of imports of fresh tomatoes from Mexico preliminarily determined by the Department of Commerce (“Commerce”) to be sold at less than fair value (“LTFV”) (84 FR 27805, June 14, 2019). On September 24, 2019, Commerce published notice in the Federal Register of the suspension of its antidumping investigation on fresh tomatoes from Mexico (84 FR 49987). The basis for the suspension is an agreement between Commerce and representatives of Mexican producers/exporters accounting for substantially all fresh tomatoes imported from Mexico into the United States.

DATES: September 24, 2019.

FOR FURTHER INFORMATION CONTACT: Christopher W. Robinson (202-205-2542), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

SUPPLEMENTARY INFORMATION: On April 1, 1996, the Commission instituted a preliminary antidumping investigation in response to a petition filed by the Florida Tomato Growers Exchange, Orlando, FL; Florida Fruit and Vegetable Association, Orlando, FL; Florida Farm Bureau Federation, Gainesville, FL; South Carolina Tomato Association, Inc., Charleston, SC; Gadsden County Tomato Growers Association, Inc., Quincy, FL; Accomack County Farm Bureau, Accomack, VA; Florida Tomato Exchange, Orlando, FL; Bob Crawford, Commissioner of Agriculture, Florida Department of Agriculture and Consumer Services, Tallahassee, FL; and the Ad Hoc Group of Florida, California, Georgia, Pennsylvania, South Carolina, Tennessee, and Virginia Tomato Growers (61 FR 15968, April 10, 1996). On May 16, 1996, the Commission notified Commerce of its affirmative preliminary injury determination (61 FR 28891, June 6, 1996). On October 28, 1996, Commerce preliminarily determined that imports of fresh tomatoes from Mexico were being sold at LTFV in the United States (61 FR 56608, November 1, 1996). Also on October 28, 1996, Commerce and certain growers/exporters of fresh tomatoes from Mexico signed a final suspension agreement (61 FR 56618, November 1, 1996). Accordingly, effective November 1, 1996, the Commission suspended its antidumping investigation (61 FR 58217, November 13, 1996).

On October 1, 2001, Commerce initiated and the Commission instituted their first five-year reviews to determine whether termination of the suspended investigation on fresh tomatoes from Mexico would likely lead to a continuation or recurrence of material injury (66 FR 49926, 66 FR 49975). On July 30, 2002, Commerce terminated the suspension agreement and its first review and resumed its antidumping investigation (67 FR 50858, August 6, 2002). Accordingly, the Commission terminated its first review on July 30, 2002 (67 FR 53361, August 15, 2002) and resumed its antidumping investigation (67 FR 56854, September 5, 2002). On December 16, 2002, Commerce and the Commission suspended their resumed antidumping investigations when Commerce signed a new suspension agreement with certain growers/exporters of fresh tomatoes from Mexico (67 FR 77044; 67 FR 78815, December 26, 2002).

On November 1, 2007, Commerce initiated and the Commission instituted their second five-year reviews of the suspended investigation (72 FR 61861, 72 FR 61905). Commerce terminated the suspension agreement and its second review and resumed its antidumping investigation, effective January 18, 2008 (73 FR 2887, January 16, 2008). The Commission consequently terminated its second review of the suspended investigation and resumed its antidumping investigation, effective January 18, 2008 (73 FR 5869, January 31, 2008). The antidumping investigation was suspended effective January 22, 2008, when Commerce signed a new suspension agreement with certain growers/exporters of fresh tomatoes from Mexico (73 FR 4831, January 28, 2008; 73 FR 7762, February 11, 2008).

On December 3, 2012, Commerce initiated and the Commission instituted their third five-year reviews of the suspended investigation (77 FR 71684, 77 FR 71629). On March 1, 2013, Commerce terminated the suspension agreement and its third review and resumed its antidumping investigation (78 FR 14771, March 7, 2013). On March 4, 2013, the Commission terminated its third review and resumed its antidumping investigation (78 FR 16529, March 15, 2013). Also on March 4, 2013, Commerce signed a new suspension agreement with certain grower/exporters of fresh tomatoes from Mexico and suspended its antidumping investigation (78 FR 14967, March 8, 2013). Effective March 4, 2013, the Commission suspended its antidumping investigation (78 FR 16529, March 15, 2013).

On February 1, 2018, Commerce initiated and the Commission instituted their fourth five-year reviews of the suspended investigation (83 FR 4641, 83 FR 4676). On May 7, 2019, Commerce terminated the suspension agreement and resumed its antidumping investigation (84 FR 20858, May 13, 2019). Effective May 7, 2019, the Commission terminated its fourth review (84 FR 21360, May 14, 2019) and resumed its antidumping investigation (84 FR 27805, June 14, 2019). On September 24, 2019, Commerce published notice in the Federal Register suspending its antidumping investigation on the basis of an agreement between Commerce and signatory producers/exporters accounting for substantially all imports of fresh tomatoes from Mexico that eliminates completely the injurious effects of exports of the subject merchandise to the United States (84 FR 49987). Accordingly, the Commission now provides notice of the suspension of its antidumping investigation.

Authority: This investigation is being suspended under authority of title VII of the Tariff Act of 1930 and pursuant to section 207.40(b) of the Commission's Rules of Practice and Procedure (19 CFR 207.40(b)). This notice is published pursuant to section 201.10 of the Commission's rules (19 CFR 201.10).

By order of the Commission.
Issued: October 7, 2019.
Jessica Mullan,
Attorney Advisor.

[FR Doc. 2019-22214 Filed 10-9-19; 8:45 am]

BILLING CODE 7020-02-P